GENERAL SERVICES ADMINISTRATION

[Notice-P-2023-01; Docket No. 2023-0002; Sequence No. 13]

Notice of Intent To Prepare an Environmental Impact Statement and Public Scoping Meeting and Request for Comments for the Expansion and Modernization of the Alcan Land Port of Entry in Alcan, Alaska

AGENCY: Office of Public Building Services (PBS); General Services Administration, (GSA).

ACTION: Notice.

SUMMARY: Pursuant to the requirements of the National Environmental Policy Act of 1969(NEPA)and the GSA/PBS NEPA Desk Guide, GSA intends to prepare an Environmental Impact Statement (EIS) to analyze the potential impacts from the proposed modernization and expansion of the existing Alcan Land Port of Entry (LPOE)located in Alcan, Alaska. GSA has initiated the required section 106 consultation of the National Historic Preservation Act (NHPA) involving outreach efforts with the Alaska State Historic Preservation Office (SHPO) and Alaska Native Villages.

DATES: A virtual public scoping meeting in open house format will be held on Wednesday, April 26, 2023, from 5:00 p.m. to 7:00 p.m., Alaska Daylight Time (AKDT). Interested parties should submit comments by Monday, May 15, 2023, to be considered in the formation of the Draft EIS. The views and comments of the public are necessary to help determine the scope and content of the environmental analysis. The meeting will be on the Zoom platform where GSA will present and distribute project information and obtain public input on the project.

All mail in comments must be postmarked by May 15, 2023.

Deadlines for Requests of Special Accommodations: Persons needing special accommodations shall notify Emily Grimes at AlcanLPOE@gsa.gov by 2:30 p.m. AKDT, on Wednesday, April 19, 2023.

ADDRESSES: The public is encouraged to provide written comments regarding the scope of the EIS at the meeting and throughout the comment period.

Submit comments identified by Notice P-2023-01 by either of the following methods:

• Email: AlcanLPOE@gsa.gov. Include Notice Identifier in the subject line of the message.

• Virtual Meeting: Comment forms will be distributed during the virtual open-house public meeting, which can also be submitted during the meeting. The link for the public scoping meeting will be made available on the GSA project website: https://www.gsa.gov/about-us/regions/welcome-to-the-northwest-arctic-region-10/buildings-and-facilities/alaska/alcan-land-port-of-entry.

• Mail: U.S. General Services Administration, Attention: Emily Grimes, Environmental Program Manager, 1301 A Street, Suite 610, Tacoma, WA 98402

• Federal Register: Submit comments in response to Notice-P-2023-01 via http://www.regulations.gov. Submit comments via the Federal eRulemaking portal by searching for “Notice-P-2023-01”. Select the link “Comment” that corresponds with “Notice-P-2023-01.” Follow the instructions provided at the screen. Please include your name, company name (if any), and “Notice-P-2023-01” on your attached document. Comments received generally will be posted without change to http://www.regulations.gov, including any personal and/or business confidential information provided. To confirm receipt of your comment(s), please check http://www.regulations.gov, approximately two-to-three days after submission to verify posting.

FOR FURTHER INFORMATION CONTACT: Emily Grimes, Environmental Program Manager, Facilities Management Division, GSA, Phone (253) 394-4026. Email AlcanLPOE@gsa.gov.

SUPPLEMENTARY INFORMATION: The Alcan LPOE is located in a remote area of eastern Alaska on the Alaska Highway and is subject to sub-arctic weather conditions. It is the only year-round land crossing between the Alaskan mainland and Canada. The current Alcan LPOE and its associated housing have only received minor additions and improvements since the original construction in 1972 and does not meet current operational needs. This modernization project is needed to meet the U.S. Customs and Border Protection's (CBP) current Program of Requirements for the port, provide optimal operational flow, address deficiencies, improve customer service to travelers, and provide a comfortable working and living environment for CBP personnel and their families. GSA and CBP are currently exploring the possibility of operating the Alcan LPOE jointly with the Canada Border Services Agency (CBSA) and will update the considered alternatives when a decision is finalized.

Alternatives Under Consideration

The EIS will consider two “action” alternatives and one “no action” alternative. Alternative 1 would consist of land acquisition, construction, and demolition activities. This alternative would relocate the Alcan LPOE location to a proposed site area on the Alaska Highway that is approximately 4 miles to the northwest of the Alaska-Canada border. This alternative would include the acquisition of the proposed site area and demolition of onsite defunct structures, including a gas station, duty-free shop, and small outbuildings. New LPOE facilities and structures would then be constructed on the acquired site, including a main port building with enclosed inspection lanes and a commercial inspection dock, a service building, a firing range, employee housing, and recreation amenities. Upon completion of the new LPOE, the existing LPOE would be decommissioned.

Alternative 2 consists of demolition, renovation, and expansion activities at the existing Alcan LPOE. These activities would include the demolition of existing housing units, construction of a new port building and housing, renovation or reuse of existing main port and support buildings, and the installation of new equipment, systems, and port support infrastructure. Expansion in this location would require the securement of additional easements from the Tetlin National Wildlife Refuge. Demolition, construction, and renovation activities would be sequenced to maintain current port operations for the entirety of the construction period.

Alternative 3 consists of the “no action” alternative, which assumes that GSA would not expand or modernize the LPOE and that port operations would continue under current conditions.

Anamarie Crawley,
Director, Facilities Management Division, GSA-PBS Northwest/Arctic Region (R10).

[FR Doc. 2023-07304 Filed 4-6-23; 8:45 am]

BILLING CODE 6820-DL-P